DEPARTMENT OF COMMERCE

Bureau of the Census

[Docket Number 040616185-4185-01]

Notice of Data Sharing Activity

AGENCY: Bureau of the Census, Department of Commerce.

ACTION: Notice and request for public comment.

SUMMARY: The Bureau of the Census (Census Bureau) plans to provide certain business data collected in its 2002 Economic Census to the Bureau of Economic Analysis (BEA) for statistical purposes exclusively. In accordance with the requirement of section 524(d) of the Confidential Information Protection and Statistical Efficiency Act of 2002 (CIPSEA), the Census Bureau is providing the opportunity for public comment on this data-sharing action. Through the use of these shared data, the BEA expects to improve the quality of data collected by the Census Bureau under the authority of Title 13 of the United States Code (U.S.C.), and collected by the BEA under the authority of the International Investment and Trade in Services Survey Act by identifying data-quality issues arising from reporting differences in the Census Bureau and BEA surveys. The Census Bureau and BEA will publish nonconfidential aggregate reports (public use) that have cleared the BEA and Census Bureau disclosure review.

DATES: Written comments must be submitted on or before August 30, 2004.

ADDRESSES: Please direct all written comments on this proposed program to the Director, U.S Census Bureau, 4700 Silver Hill Road, Washington, DC 20233-0100.

FOR FURTHER INFORMATION CONTACT: Requests for additional information on this proposed program should be directed to Mr. Julius Smith, Jr., Chief, Special Studies Branch, Manufacturing and Construction Division, U.S. Census Bureau, 4700 Silver Hill Road, Washington, DC 20233-6900, by phone at (301) 763-7662 or by fax at (301) 457-1318 or by e-mail at julius.smith.jr@census.gov.

SUPPLEMENTARY INFORMATION:

Background

The CIPSEA (Pub. L. 107-347, Subtitle V; 44 U.S.C. 3501 et seq.) and the International Investment and Trade in Services Survey Act (Pub. L. 94-472 as amended; 22 U.S.C. 3101-3108) allow the BEA and the Census Bureau to share certain business data for exclusively statistical purposes. Section 524(d) of the CIPSEA requires a Federal Register notice announcing the intent to share data (allowing 60 days for public comment).

Section 524(d) also requires us to provide information about the terms of the agreement for data sharing. For the purposes of this notice, the Census Bureau has decided to group these terms by three categories. The categories are as follows:

• Shared data.

• Statistical purposes for the shared data.

• Data access and confidentiality.

Shared Data

The Census Bureau proposes to provide the BEA with data collected from the 2002 Economic Census and Business Register. The agreement also calls for the BEA to share with the Census Bureau data collected from the Foreign Direct Investment surveys. The BEA will issue a separate notice addressing this issue.

The BEA will use these data for statistical purposes exclusively. Through record linking, the BEA expects to improve the quality of data collected under the authority of Title 13 of the U.S.C, and the International Investment and Trade in Services Survey Act by identifying data-quality issues arising from reporting differences in the Census Bureau and the BEA surveys.

Statistical Purposes for the Shared Data

The data collected from the 2002 Economic Census and Business Register are used to estimate employment, payroll, and receipt data of U.S. companies. Statistics from the census are published in separate data publications. All data are collected under Sections 131 and 224 of Title 13 of the U.S.C.

Data Access and Confidentiality

Title 13 of the U.S.C. protects the confidentiality of these data. The data may be seen only by persons sworn to uphold the confidentiality of the information. Access to the shared data will be restricted to specifically authorized personnel and will be provided for statistical purposes only. All BEA employees with access to these data will become Census Bureau Special Sworn Employees—meaning that they, under penalty of law, must uphold the data's confidentiality. To further safeguard the confidentiality of the data, the Census Bureau has conducted an Information Technology Security Review of the BEA. The results of this project are subject to disclosure review. Disclosure review is a process conducted to verify that the data to be released do not reveal any confidential information.

Dated: June 24, 2004.
Hermann Habermann,
Deputy Director, Bureau of the Census.

[FR Doc. 04-14819 Filed 6-29-04; 8:45 am]

BILLING CODE 3510-07-P